DEPARTMENT OF COMMERCE

National Oceanic and Atmospheric Administration

[RTID 0648-XE678]

Mid-Atlantic Fishery Management Council (MAFMC); Public Meeting

AGENCY: National Marine Fisheries Service (NMFS), National Oceanic and Atmospheric Administration (NOAA), Commerce.

ACTION: Notice; public meeting.

SUMMARY: The MAFMC will hold a public webinar meeting of its Summer Flounder, Scup, and Black Sea Bass Advisory Panel and Bluefish Advisory Panel. This meeting will be held jointly with the respective Advisory Panels of the Atlantic States Marine Fisheries Commission. See SUPPLEMENTARY INFORMATION for agenda details.

DATES: The meeting will be held on Thursday, March 13, 2025, from 2 p.m. to 4 p.m.

ADDRESSES: Webinar connection information will be posted to the calendar prior to the meeting at https://www.mafmc.org.

Council address: Mid-Atlantic Fishery Management Council, 800 N State Street, Suite 201, Dover, DE 19901; telephone: (302) 674-2331; https://www.mafmc.org.

FOR FURTHER INFORMATION CONTACT: Christopher M. Moore, Ph.D., Executive Director, Mid-Atlantic Fishery Management Council, telephone: (302) 526-5255.

SUPPLEMENTARY INFORMATION: The purpose of this meeting is for the Advisory Panels to discuss the Recreational Measures Setting Process Framework/Addenda. The Framework/Addenda considers changes to the process used to set recreational bag, size, and season limits for summer flounder, scup, black sea bass, and bluefish. During this meeting, advisors will review the alternatives under consideration in the framework/addenda, a summary of public comments, input from the Fishery Management Action Team/Plan Development Team, and other information. Advisors will then provide their input and recommendations for final action.

Special Accommodations

The meeting is physically accessible to people with disabilities. Requests for sign language interpretation or other auxiliary aid should be directed to Shelley Spedden, (302) 526-5251, at least 5 days prior to the meeting date.

(Authority: 16 U.S.C. 1801 et seq.)

Dated: February 18, 2025.
Alyssa Weigers,
Acting Deputy Director, Office of Sustainable Fisheries, National Marine Fisheries Service.

[FR Doc. 2025-02949 Filed 2-21-25; 8:45 am]

BILLING CODE 3510-22-P